NATIONAL SCIENCE FOUNDATION

Special Emphasis Panel in Graduate Education

Name: Special Emphasis Panel in Graduate Education (57).

Date/Time: February 3-6 and 7-10, 2001; 8 a.m.-5 p.m.

Place: Doubletree Hotel, 300 Army Navy Drive, Arlington, VA.

Type of Meeting: Closed.

Contact Person: Janet C. Rutledge and Eric J. Sheppard, National Science Foundation, 4201 Wilson Boulevard, Room 907, Arlington, VA 22230. Telephone: (703) 292-8694.

Purpose of Meeting: To provide advice and recommendations concerning proposals submitted to NSF.

Agenda: Review and evaluate proposals as part of the selection process for awards.

Minutes: May be obtained from the contact persons listed above.

Reason for Closing: The proposals being reviewed included information of a proprietary or confidential nature, including technical information and personal information concerning individuals associated with the proposals. These matters are exempt under 5 U.S.C. 552b(c), (4) and (6) of the Government in the Sunshine Act.

Dated: January 16, 2001.
Karen J. York,
Committee Management Officer.

[FR Doc. 01-1938 Filed 1-22-01; 8:45 am]

BILLING CODE 7555-01-M